DEPARTMENT OF HEALTH AND HUMAN SERVICES

Administration for Children and Families

[OMB #: 0970-0531]

Proposed Information Collection and Submission for Office of Management and Budget Review; Fiscal Responsibility Act TANF Pilot Program 2025 Information Collection

AGENCY: Office of Family Assistance, Administration for Children and Families, U.S. Department of Health and Human Services.

ACTION: Request for public comments.

SUMMARY: The Administration for Children and Families (ACF) is proposing to reissue an information collection to request information from interested states for the Fiscal Responsibility Act of 2023 (FRA) Temporary Assistance for Needy Families (TANF) pilot program. This request is proposed under Office of Management and Budget (OMB) #: 0970-0531 and is a reissuing of a previously approved information collection to select states for the FRA pilot program.

DATES: Comments due June 20, 2025. OMB will make a decision about the collection of information after this public comment period ends and comments have been considered.

ADDRESSES: You can obtain copies of the proposed collection of information and submit comments by emailing infocollection@acf.hhs.gov. Identify all requests by the title of the information collection.

SUPPLEMENTARY INFORMATION:

Description: The FRA authorized a new opportunity for states to pilot program performance and accountability measures in TANF. Under the pilot, the U.S. Department of Health and Human Services (HHS) may select up to five state TANF grantees to negotiate performance benchmarks for work and family stability outcomes instead of adhering to the standard TANF Work Participation Rate. The ACF Office of Family Assistance (OFA) administers federal grant programs that foster family economic stability and independence, including the TANF program. As such, OFA is responsible for designing and carrying out the FRA TANF Pilot Program, including selecting the five states to participate in the pilot, working with the states to identify performance benchmarks and associated targets, and monitoring performance of the pilot states throughout the duration of the pilot.

ACF received approval for a previous information collection (Title: Fiscal Responsibility Act TANF Pilot Program; OMB #: 0970-0531) on July 17, 2024. Twenty-three states and territories responded to the information collection from July through September 2024. In November 2024, ACF announced the selection of five states to participate in the FRA TANF Pilot Program. In March 2025, the Trump Administration announced a new direction for the FRA TANF Pilot Program, ending pilot participation for the states selected in November of 2024 and communicating plans to issue a new request for pilot proposals aligned with the Administration's focus on promoting work and reducing dependency and the key measures of success related to those priorities. This new request to OMB is to collect information from states about their interest and suitability for participation in the new direction being taken for the FRA TANF Pilot Program.

OFA also intends to provide programmatic technical assistance (TA) to the pilot states. ACF's Office of Planning, Research, and Evaluation (OPRE) studies ACF programs, including TANF, and the populations they serve through rigorous research and evaluation projects. OPRE will be responsible for the federal evaluation of the FRA TANF Pilots Program and intends to provide data- and evaluation-related TA to the pilot states.

Respondents: States operating TANF programs and interested in innovations within those programs focused on promoting work and reducing dependency. In accordance with title IV-A of the Social Security Act, states is defined as the 50 States of the United States, the District of Columbia, the Commonwealth of Puerto Rico, the United States Virgin Islands, Guam, and American Samoa. See 42 U.S.C. 619(5).

Annual Burden Estimates

The Proposal for TANF Pilot Program Participation is intentionally succinct and will be considered in combination with existing sources of administrative data. Therefore, ACF estimates that a state will spend approximately 10 hours compiling information and responding to the request. In the first issuing of this information collection in July 2024, ACF received responses from 23 states and territories. The estimated number of respondents in the table below is based on the number of responses received in the first round and ACF's expectations for number of responses in the second round.

Instrument | Total number of respondents | Total number of responses per respondent | Average burden hours per response | Total burden hours
Proposal for TANF Pilot Program Participation | 25 | 1 | 10 | 250

Authority: 42 U.S.C. 611(e).

Mary C. Jones,
ACF/OPRE Certifying Officer.

[FR Doc. 2025-09098 Filed 5-20-25; 8:45 am]

BILLING CODE 4184-36-P